DEPARTMENT OF COMMERCE

International Trade Administration

Amendment of Date for Trade Mission to Algeria and Libya, February 17-22, 2010

AGENCY: Department of Commerce.

ACTION: Amendment and extension of deadline, of Federal Register March 11, 2009, Volume 74, Number 46.

Mission Statement

The United States Department of Commerce, International Trade Administration, U.S. and Foreign Commercial Service has rescheduled the Trade Mission to Algiers, Algeria, and Tripoli, Libya, from November 4-8, 2009, to February 17-22, 2010. The Department of Commerce will accept additional applications for this mission through November 12, 2009. A maximum of 12 additional companies will be selected to participate in the mission from the new applicant pool. Companies previously selected to participate in this mission need not reapply.

Proposed Timetable

Tuesday, February 16

Arrive in Algiers, Algeria

Optional no-host dinner

Wednesday, February 17

Market briefing

One-on-one business appointments

U.S. Embassy reception

Thursday, February 18

One-on-one business appointments

Meetings with government and industry officials

Friday, February 19

Cultural site visits

Saturday, February 20

Travel from Algiers to Tripoli, Libya

Sunday, February 21

Market briefing

One-on-one business appointments

Meetings with government and industry officials

U.S. Embassy reception

Monday, February 22

One-on-one business appointments

End of mission

For More Information and an Application Packet Contact: Lisa Huot, U.S. Commercial Service, Department of Commerce, Tel: 202-482-2796, Fax: 202-482-9000, E-mail: northafricamission@mail.doc.gov.

Lisa Huot,
Global Trade Programs, Commercial Service Trade Missions Program.

[FR Doc. E9-24035 Filed 10-5-09; 8:45 am]

BILLING CODE 3510-DS-P